NUCLEAR REGULATORY COMMISSION

Advisory Committee on the Medical Uses of Isotopes: Meeting Notice

AGENCY: U.S. Nuclear Regulatory Commission (NRC).

ACTION: Notice of meeting.

SUMMARY: NRC will convene a public meeting of the Advisory Committee on the Medical Uses of Isotopes (ACMUI) June 12-13, 2007. A sample of agenda items to be discussed includes: (1) NARM legislation, transition plan, and guidance; (2) status of specialty board applications for NRC recognition; (3) units of air kerma strength vs. activity; (4) patient release and security checkpoints; (5) Y-90 microspheres guidance; (6) sentinel lymph node biopsies; (7) new modalities; (8) training and experience implementation issues. To review the agenda, see http://www.nrc.gov/reading-rm/doc-collections/acmui/agenda/ or contact Ashley M. Tull. Contact information for Ms. Tull is provided below.

Purpose: Discuss issues related to 10 CFR 35, Medical Use of Byproduct Material.

Date and Time: June 12-13, 2007, from 8 a.m. to 5 p.m.

ADDRESSES: U.S. Nuclear Regulatory Commission, Two White Flint North, Room T2-B3, 11545 Rockville Pike, Rockville, MD 20852-2738.

Contact: Ashley M. Tull by telephone (301) 415-5294; e-mail amt1@nrc.gov; or mail Office of Federal and State Materials, U.S. Nuclear Regulatory Commission, Mail Stop T8-F3, Washington, DC 20555-0001.

Conduct of the Meeting

Leon S. Malmud, M.D., will chair the meeting. Dr. Malmud will conduct the meeting in a manner that will facilitate the orderly conduct of business. The following procedures apply to public participation in the meeting:

1. This meeting will be held in accordance with the Atomic Energy Act of 1954, as amended (primarily Section 161a); the Federal Advisory Committee Act (5 U.S.C. App); and the Commission's regulations in Title 10, U.S. Code of Federal Regulations, Part 7.

2. Persons who wish to provide a statement should submit an e-mail or mail a reproducible copy to Ms. Tull at the contact information provided. Submittals must be e-mailed or postmarked by June 1, 2007, and must pertain to the topics on the agenda for the meeting.

3. Questions and comments from members of the public will be permitted during the meeting, at the discretion of the Chairman.

4. The transcript and written comments will be available on NRC's Web site (http://www.nrc.gov) and at the NRC Public Document Room, 11555 Rockville Pike, Rockville, MD 20852-2738, telephone (800) 397-4209, on or about September 12, 2007.

5. Attendees are requested to notify Ms. Tull, at the previously stated contact information, of their planned attendance if special services, such as those for the hearing impaired, are necessary.

Dated at Rockville, Maryland, this 2nd day of May 2007.
For the U.S. Nuclear Regulatory Commission.
Annette L. Vietti-Cook,
Secretary of the Commission.

[FR Doc. E7-8797 Filed 5-7-07; 8:45 am]

BILLING CODE 7590-01-P